GULF COAST ECOSYSTEM RESTORATION COUNCIL

Announcement for Spill Impact Component Planning Grants Restore Council

Agency: Gulf Coast Ecosystem Restoration Council.

RFA Name: Spill Impact Component Planning Grants

Announcement Type: Initial

Funding Opportunity Number: GCC-GRANT-SEP-15-001

Fiscal Year: FY 2015 and later

Catalog of Federal Domestic Assistance (CFDA) Number: 87.052

Dates: Planning State Expenditure Plans will be accepted on a rolling basis. All administrative grant application materials are due 30 days after official written approval of the planning State Expenditure Plan.

Additional information:

This announcement provides guidance to the Gulf Coast States—defined as any of the States of Alabama, Florida, Louisiana, Mississippi, and Texas—or the Gulf Coast States' administrative agents and the Gulf Consortium of Florida counties (collectively referred to in this announcement as “eligible entities”) to apply for grants to fund planning activities to develop individual State Expenditure Plans (SEP) under the Spill Impact Component of the Resources and Ecosystem Sustainability, Tourist Opportunities, and Revived Economies of the Gulf Coast States Act of 2012 (RESTORE Act). The eligible entities may apply to the Council for a grant to use the minimum allocation available under the Spill Impact Component of the RESTORE Act for planning purposes. The submission process for this announcement is organized into two phases: (1) The submission of a planning SEP by a Gulf Coast State; and (2) the administrative application process, which includes the submission of all administrative grant application materials by the eligible entities.

All planning activities proposed under this announcement are limited to the development of a comprehensive SEP, including conceptual design and feasibility studies related to specific projects. This announcement does not include engineering and environmental studies related to specific projects. It also does not include any pre-award costs incurred prior to August 22, 2014.

I. Funding Opportunity Description

The RESTORE Act, Public Law 112-141 (July 6, 2012), codified at 33 U.S.C. 1321(t) and note, makes funds available for the restoration and protection of the Gulf Coast Region through a new trust fund in the Treasury of the United States, known as the Gulf Coast Restoration Trust Fund (“Trust Fund”). The Trust Fund will contain 80 percent of the administrative and civil penalties paid by the responsible parties after July 6, 2012, under the Federal Water Pollution Control Act in connection with the Deepwater Horizon oil spill. These funds will be invested and made available through five components of the RESTORE Act. On August 15, 2014, the Department of Treasury (Treasury) issued regulations (79 FR 48039) applicable to all five components, and which generally describe the responsibilities of the Federal and State entities that administer RESTORE Act programs and carry out restoration activities in the Gulf Coast Region.

Two of the five components, the Comprehensive Plan and Spill Impact Components, are administered by the Council, an independent federal entity created by the RESTORE Act. Under the Spill Impact Component (33 U.S.C. 1321(t)(3)), 30 percent of funds in the Trust Fund will be disbursed to the five Gulf Coast States or their administrative agents based on an allocation formula established by the Council by regulation based on criteria in the RESTORE Act.

The Council is currently developing another set of regulations to more fully implement the Spill Impact Component of the RESTORE Act. These regulations will be published in the Federal Register at a later date and will establish how funds made available from the Trust Fund will be allocated based on the formula between the five Gulf Coast States. It will also generally describe the responsibilities of the Gulf Coast States in applying for and administering the financial assistance awards made under the Spill Impact Component.

A. Program Objective and Priorities

The purpose of the announcement is to solicit applications for State Expenditure Plans (SEP) planning grants. All planning activities proposed under this announcement are limited to the development of a comprehensive SEP, including conceptual design and feasibility studies related to specific projects. This announcement does not cover applications that propose engineering and environmental studies related to specific projects. It also does not include any pre-award costs incurred prior to publication of the RESTORE Council's RESTORE Act Spill Impact Component Planning Allocation Interim Final Rule (79 FR 49690) on August 22, 2014. Pre-award costs incurred after the date of publication will be evaluated pursuant to 2 CFR part 200. Pre-award costs, as defined by 2 CFR part 200.458, are those incurred prior to the effective date of the Federal award directly pursuant to the negotiation and in anticipation of the Federal award where such costs are necessary for efficient and timely performance of the scope of work. Such costs are allowable only to the extent that they would have been allowable if incurred after the date of the Federal award and only with the written approval of the Federal awarding agency.

The submission process for this announcement is organized into two phases: (1) The submission of a planning SEP by a Gulf Coast State Council member which will be approved by the Chairperson of the RESTORE Council; and (2) the administrative application process for the planning grants, which includes the submission of all administrative grant application materials by the eligible entities.

B. Program Authority

33 U.S.C. 1321(t)(3), and 40 CFR part 1800, the RESTORE Council's RESTORE Act Spill Impact Component Planning Allocation (79 FR 49690, August 22, 2014).

II. Award Information

A. Funding Availability

For this planning grant announcement, an eligible entity cannot apply for more than the five (5) percent statutory minimum of the current amount available.

The amount currently available is $48,977,572.60 or $9,795,514.52 per eligible entity.

B. Project/Award Period

The award period for these grants should not exceed one year (12 months).

C. Type of Funding Instrument

The funds the Council disburses to the eligible entities will be in the form of grants.

III. Eligibility Information

A. Eligible Applicants

Eligible applicants are the Gulf Coast States—defined in 33 U.S.C. 1321(a)(34) as any of the States of Alabama, Florida, Louisiana, Mississippi, and Texas—or their administrative agents and the Gulf Consortium of Florida counties (collectively referred to in this announcement as “eligible entities”).

No other entities are eligible to apply under this announcement.

B. Cost-Sharing or Matching

There is no cost share or match requirement.

C. Other

This announcement does not include any pre-award costs incurred prior to publication of the RESTORE Council's RESTORE Act Spill Impact Component Planning Allocation Interim Final Rule (79 FR 49690) on August 22, 2014. Pre-award costs incurred after the date of publication of the Interim Final Rule will be evaluated pursuant to 2 CFR part 200. Pre-award costs, as defined by 2 CFR part 200.458, are those incurred prior to the effective date of the Federal award directly pursuant to the negotiation and in anticipation of the Federal award where such costs are necessary for efficient and timely performance of the scope of work. Such costs are allowable only to the extent that they would have been allowable if incurred after the date of the Federal award and only with the written approval of the Federal awarding agency. Pre-award costs are subject to review and written approval by the RESTORE Council and are not guaranteed under this announcement.

IV. Application and Submission Information

A. Address To Request Application Package

Eligible entities can download application forms and other material necessary to apply for the Spill Impact Component planning grants through the RESTORE Council Web site at http://www.restorethegulf.gov/ourwork/spill-impact.

B. Content and Form of Application

This is a two-phase application process. The first part of the application process is the submission of a planning State Expenditure Plan by a Gulf Coast State, which must be approved by the RESTORE Council Chairperson. The second part of the application process is the submission of all administrative grant application materials by the eligible entities.

All planning activities authorized under this announcement must relate solely to the development of a comprehensive SEP. This includes conceptual design and feasibility studies related to specific projects. The intended outcome of awards funded under this announcement is the development of a SEP that meets the requirements listed in this announcement, is acceptable to the applicable Gulf Coast State and is approved by the Council Chairperson. Funds under this announcement cannot be used for the following: Engineering and environmental studies related to specific projects, or pre-award costs incurred prior to the date of publication of the RESTORE Council's RESTORE Act Spill Impact Component Planning Allocation Interim Final Rule (79 FR 49690) on August 22, 2014. For the purposes of this announcement, all activities included in the SEP must be eligible activities as defined by the RESTORE Act.

The RESTORE Act establishes a statutory minimum under which each of the five Gulf Coast States is guaranteed five (5) percent of the funds made available in the Spill Impact Component in fiscal year 2015.

The materials submitted under both the planning SEP phase and administrative grant application phase should include consecutively numbered pages and label all sections. Applications should be formatted to print on 8.5″ x 11″ paper, with 1″ margins at the top, bottom, and both sides, and page numbers at the bottom of the page. Fonts should be legible, i.e., preferably 12 point Arial, Times New Roman, or other commonly used font.

Applications for funding under this announcement must include all of the following listed under each phase:

Phase I: Submission of Planning State Expenditure Plan:

The Planning State Expenditure Plan (SEP) must include the following:

1. Executive Summary:

a. Entity name and name of Gulf Coast State.

b. Contact information for the authorizing official—Include the name, title, organization, address, telephone number, fax number, and email address; if applicable, include contact information for additional points of contact.

2. Planning SEP Narrative addressing the following:

a. The planning activities proposed are limited to the development of a comprehensive SEP (defined as an eligible activity in 33 U.S.C. 1321(t)(1)(B)(i)(III)), including conceptual design and feasibility studies related to specific projects;

b. Contributes to the overall economic and ecological recovery of the Gulf Coast.

c. Takes into consideration and is consistent with the goals and objectives of the Comprehensive Plan.

d. Does not include costs for infrastructure or engineering and environmental studies related to specific projects.

This planning SEP will be for the limited purpose of developing a comprehensive State Expenditure Plan which may include conceptual design and feasibility studies related to specific projects. Detailed budget and project narrative information is required as part of Phase II, see below.

The planning SEP must be reviewed and approved by the RESTORE Council Chairperson prior to an eligible entity's submission of Phase II application materials.

Phase II: Submission of Administrative Grant Application Materials:

1. Required Forms:

a. Form SF-424, “Application for Federal Assistance.”

b. Form SF-424A, “Budget Information—Non-Construction Programs.”

c. Form SF-424B, “Assurances—Non-Construction Programs.”

d. Form CD-511, “Certification Regarding Lobbying.”

e. Form SF-LLL, “Disclosure of Lobbying Activities,” if applicable.

2. Project Narrative: Include a concise project narrative that identifies and describes how the funds will be used to develop the SEP.

3. Budget Narrative: Include a detailed narrative of how the funds will be spent on this planning grant. The budget narrative categories should match the line item budget categories on the SF-424A (listed directly below). Definitions of each line item follow:

a. Personnel—This refers to salaries and wages paid to employees of the grantee organization who are directly involved in grant implementation. This line item does not include personnel hired by a sub-grantee; those costs are included in the “Contractual” line item.

b. Fringe Benefits—This refers to the allowances and services provided by employers to their employees as compensation in addition to regular salaries and wages. Fringe benefits include, but are not limited to, the costs of leave (vacation, family-related, sick or military), employee insurance, pensions, and unemployment benefit plans.

c. Travel—This refers to the expenses for transportation, lodging, subsistence, and related items incurred by employees who are in travel status on official business of the non-Federal entity. Such costs may be charged on an actual cost basis, on a per diem or mileage basis in lieu of actual costs incurred, or on a combination of the two, provided the method used is applied to an entire trip and not to selected days of the trip, and results in charges consistent with those normally allowed in like circumstances in the non-Federal entity's non-federally-funded activities and in accordance with non-Federal entity's written travel reimbursement policies. This line item does not include travel expenses of a sub-grantee; those costs are included in the “Contractual” line item.

d. Equipment—This refers to tangible personal property (including information technology systems) having a useful life of more than one year and a per-unit acquisition cost which equals or exceeds the lesser of the capitalization level established by the non-Federal entity for financial statement purposes, or $5,000.

e. Supplies—This refers to all tangible personal property other equipment. A computing device is a supply if the acquisition cost is less than the lesser of the capitalization level established by the non-Federal entity for financial statement purposes or $5,000, regardless of the length of its useful life.

f. Contractual—This refers to purchases of property or services needed to carry out the project or program under a Federal award. It is not specific to the legal instrument being used, so it may include both subawards and subcontracts.

g. Construction—[not applicable]

h. Other—This refers to Direct costs that do not fit any of the aforementioned categories, such as rent for buildings used to conduct grant activities, utilities and/or leased equipment, transportation expenses, tuition for training, etc.

i. Indirect costs—This refers to costs incurred for a common or joint purpose benefitting more than one cost objective, and not readily assignable to the cost objectives specifically benefitted, without effort disproportionate to the results achieved. See Section VI.B.3. for details on the three percent cap on certain indirect costs.

4. Certification and Documentation addressing the following:

a. The applicant has a financial management system in place meeting the standards prescribed in 2 CFR part 200 that tracks and records program expenditures;

b. The applicant has an accounting system that identifies the receipts and expenditures of program funds separately for each award;

c. The applicant's history of performance in managing Federal awards (e.g. timeliness of compliance with reporting, conformance with terms and conditions);

d. The results of applicant's previous audits; and

e. The applicant's ability to effectively implement statutory, regulatory, or other requirements imposed on non-Federal entities.

Based on the responses to this certification, the RESTORE Council will review the risk posed by applicants or when an applicant or recipient has a history of failure to comply with the general or specific terms and conditions of a Federal award, or failure to meet expected performance goals as described in 2 CFR part § 200.210 contained in a Federal award, or is not otherwise responsible, the RESTORE Council may impose additional specific award conditions as needed.

C. Dun and Bradstreet Universal Numbering System (DUNS) Number and System for Award Management (SAM).

Each applicant is required to: (i) Be registered in the System for Award Management (SAM) before submitting its application (www.SAM.gov);¹ (ii) provide a valid DUNS number in its application; and (iii) continue to maintain an active SAM registration with current information at all times during which it has an active Federal award or an application or plan under consideration by a Federal awarding agency. The RESTORE Council may not make a Federal award to an applicant until the applicant has complied with all applicable DUNS and SAM requirements and, if an applicant has not fully complied with the requirements by the time the RESTORE Council is ready to make a Federal award, the RESTORE Council may determine that the applicant is not qualified to receive a Federal award.

¹ If an applicant previously registered in the Central Contractor Registration (CCR), it will need to register with SAM. Note that a CCR username will not work in SAM; an applicant must create a new SAM User Account to renew or update its registration. Authorizations and credential corrections can take several days to establish. Please plan accordingly to avoid late submissions. For further information please visit the SAM web portal (https://www.sam.gov/portal/public/SAM/.)

D. Submission Dates and Times:

Applications must be submitted via email to the following address sep-grant_applications@restorethegulf.gov or hard copy submission to the following address: Gulf Coast Ecosystem Restoration Counsel Office, 500 Poydras Street, Suite 1117, New Orleans, LA 70130.

Planning State Expenditure Plans will be accepted on a rolling basis.

All administrative grant application materials are due 30 days after official written approval of the planning State Expenditure Plan.

E. Intergovernmental Review

Executive Order 12372, “Intergovernmental Review of Federal Programs,” was issued with the intent to foster the intergovernmental partnership and strengthen federalism by relying on State and local processes for the coordination and review of proposed Federal financial assistance and direct Federal development. Consistent with the RESTORE Act, the five Gulf States are voting members of the Council and all five States participated in the design and implementation of this grant program.

F. Funding Restrictions:

Of the amounts received by an eligible entity in a grant under this announcement, not more than three percent may be used for administrative costs. The three percent limit is applied to the total amount of funds received by a recipient under each grant. The three percent limit does not apply to the administrative costs of subrecipients. All subrecipient costs are subject to the cost principles in Federal law and policies on grants. Administrative costs are defined as those indirect costs for administration incurred by the Gulf Coast States, coastal political subdivisions, and coastal zone parishes that are allocable to activities authorized under the Act. Administrative costs may include costs for general management functions, general ledger accounting, budgeting, human resource services, general procurement services, and general legal services. Administrative costs do not include indirect costs that are identified specifically with, or readily assignable to: (1) Facilities; (2) Eligible projects, programs, or planning activities; or (3) Activities relating to grant applications, awards, audit requirements, or post-award management, including payments and collections. See the http://www.restorethegulf.gov/ourwork/spill-impact Web site for an example of administrative costs.

All planning activities proposed under this announcement are limited to the development of a comprehensive SEP, including conceptual design and feasibility studies related to specific projects. This announcement does not cover applications that propose engineering and environmental studies related to specific projects.

G. Other Submission Requirements:

None.

V. Application Review Information

A. Evaluation Criteria

Only eligible recipients (Section III.A.) may apply for Spill Impact planning grant funds. The critical components, information, and criteria necessary to be provided in an application for planning grant funds are identified in, but not limited to, Section IV.

B. Review and Selection Process

The Spill Impact component is non-competitive with Congressionally-required authorized uses. Instead of a selection process, there is a review and approval process. The RESTORE Council may (1) review and approve an application, (2) work with eligible entities to revise applications and resubmit, or (3) rescind applications, as appropriate. All Spill Impact planning grant funding restrictions, as discussed above, must be met and applicants must adhere to the appropriate administrative requirements and cost principles prior to receipt of a grant award and throughout the grant period.

Phase I: Review of Planning State Expenditure Plan:

The RESTORE Council Chairperson will review each minimal State Expenditure Plan to ensure that it:

1. The planning activities proposed are limited to the development of a comprehensive SEP (defined as an eligible activity in 33 U.S.C. 1321(t)(1)(B)(i)(III)), including conceptual design and feasibility studies related to specific projects;

2. Contributes to the overall economic and ecological recovery of the Gulf Coast.

3. Takes into consideration and is consistent with the goals and objectives of the Comprehensive Plan.

4. Does not include costs for infrastructure or engineering and environmental studies related to specific projects.

After reviewing the planning SEP, the Chairperson will approve or disapprove the planning SEP. Once the planning SEP is approved, the applicant will submit materials required under Phase II, and the review process for Phase II will take place. In the event that a planning SEP is disapproved, the Council will provide, within 60 days of the receipt of the planning SEP, the reason(s) for disapproval in writing and consult with the applicant to address any deficiencies with the planning SEP. If the planning SEP is disapproved, the applicant may submit a revised planning SEP for review and approval.

Phase II: Review of Administrative Grant Application Materials:

The RESTORE Council will review the technical, best available science and environmental components of a project to ensure compliance with RESTORE Council program requirements. The technical reviews include evaluating the adequacy of the information submitted, including, but not limited to the following:

1. The clear applicability to the authorized uses;

2. Clear, concise goals; and

3. Objectives with measurable planning outcome.

All required forms and application components (Section IV) will be reviewed and approved before the award is made.

D. Anticipated Award Dates

After receipt of a compliant grant application, grant awards are anticipated to be made within 60 days.

VI. Award Administration Information

Payments will be on a reimbursement basis for these awards. Payments are made upon receipt and approval of an invoice from the grant recipient. Invoices must be sent directly to the Administrative Resource Center at the Department of the Treasury, the office that handles the RESTORE Council's accounting, email Grants@fiscal.treasury.gov. The RESTORE Council must be copied via email to sep-invoicepmts@restorethegulf.gov in the payment request invoice email.

The required invoice information for a payment request is:

• Vendor Name: Grantee name as entered in SAM (or the “Doing Business As” name in SAM)

• Duns #: From SAM

• Invoice # or Account #

• PO#: Invoice should reference the PO#. (It can reference PO line and shipment or that can be specified by the invoice approver on the approval form)

• Description: Similar to the PO description and includes prices, quantities, services provided, etc., as applicable.

• Invoice date or service period

• Dollar Amount

Once an invoice request has been submitted through the system, invoices will be transmitted to the Council's Invoice Approver for review and confirm that the request adheres to the terms and conditions of the grant award. After the Council Invoice Approver provides the Administrative Resource Center with approval, the payment will be made by electronic funds transfer, using the banking information that the recipient has provided in the System for Awards Management (SAM).

A. Award Notices

Successful applicants will receive official notification of funding signed by an authorizing Grants Officer. Notifications will be issued to the Authorizing Official either electronically or in hard copy. Unsuccessful applicants will be notified by the Council after successful applicants receive notification.

B. Administrative and National Policy Requirements

1. Administrative and National Policy Requirements

Administrative and national policy requirements for all RESTORE Council awards apply to this competition. These requirements may be found in the Council Pre-Award Notification Requirements for Grants Agreements, published in the Federal Register on November 24, 2014 (79 FR 69822). This notice may be accessed at the Government Printing Office (GPO) Web site at http://www.gpo.gov/fdsys/browse/collection.action?collectionCode=FR.

2. Limitation of Liability

In no event will the RESTORE Council be responsible for proposal preparation costs if these projects or programs fail to receive funding or are cancelled because of other agency priorities. Publication of this announcement does not oblige the RESTORE Council to award any specific project or program, or to obligate any available funds. Recipients are subject to all Federal laws and agency policies, regulations, and procedures applicable to Federal financial assistance awards.

3. Three Percent Cap on Indirect Costs

The total allowable indirect costs are subject to the three (3) percent cap on administrative costs stated in 33 U.S.C. 1321(t)(1)(iii). Pursuant to 31 CFR 34.2, administrative costs means those indirect costs for administration incurred by the Gulf Coast States, coastal political subdivisions, and coastal zone parishes that are allocable to activities authorized under the Act. Administrative costs may include costs for general management functions, general ledger accounting, budgeting, human resource services, general procurement services, and general legal services. Administrative costs do not include indirect costs that are identified specifically with, or readily assignable to: (1) Facilities; (2) Eligible projects, programs, or planning activities; or (3) Activities relating to grant applications, awards, audit requirements, or post-award management, including payments and collections.

C. Reporting

Recipients will be required to submit financial and performance (technical) reports (also known as progress reports). All financial reports shall be submitted to Office of Finance and Budget, Chief Financial Officer/Director of Administration, RESTORE in accordance with the award conditions. Electronic submission of financial reports is preferred via email to sep-financialrpts@restorethegulf.gov. Performance reports should be submitted to the Deputy Director/Director of Programs. Performance reports must include the status of a SEP that meets the requirements listed in this announcement, specifically, that it is acceptable to the applicable Gulf Coast State and is approved by the Council Chairperson. Electronic submission of performance reports is preferred via email to sep-performancerpts@restorethegulf.gov. All reports will be submitted on a basis determined by the results of an applicant's risk assessment. In any event, reports will be submitted no less frequently than annually, and no more frequently than quarterly, unless more frequent reporting is deemed necessary. Reports must be submitted no later than 30 days following the end of each period, if reporting is less than annually, from the start date of the award. The comprehensive final report is due 90 days after the award expiration.

The Federal Funding Accountability and Transparency Act of 2006 includes a requirement for awardees of applicable Federal grants to report information about first-tier sub-awards and executive compensation under Federal assistance awards issued in FY 2011 or later. All awardees of applicable grants and cooperative agreements are required to report to the Federal Sub-award Reporting System (FSRS) available at www.FSRS.gov on all sub-awards over $25,000.

VII. Agency Contacts

The contact for questions about this announcement is Mary Pleffner. Her email contact information is email: mary.pleffner@restorethegulf.gov; telephone number: 813-995-2025; and mailing address is Gulf Coast Ecosystem Restoration Counsel Office, 500 Poydras Street, Suite 1117, New Orleans, LA 70130.

VIII. Other Information

A. New Program

This is an announcement for a new Federal grant program authorized by the Oil Spill Restoration Impact Allocation Component of the Resources and Ecosystems Sustainability, Tourist Opportunities, and Revived Economies of the Gulf Coast States Act of 2012 (RESTORE Act), specifically, 33 U.S.C. 1321(t)(3), and 40 CFR part 1800, RESTORE Council's RESTORE Act Spill Impact Component Planning Allocation (79 FR 49690, August 22, 2014).

B. Freedom of Information Act (FOIA)

Council adopts the requirements of the Freedom of Information Act (FOIA) as 5 U.S.C. 552. This statute sets forth rules for the Council regarding making requested materials, information, and records publicly available under the FOIA. Applications submitted in response to this announcement may be subject to requests for release under the FOIA. In the event that an application contains information or data that the applicant deems to be confidential commercial information which is exempt from disclosure under FOIA, that information should be identified, bracketed, and marked as Privileged, Confidential, Commercial or Financial Information. Based on these markings, the confidentiality of the contents of those pages will be protected to the extent permitted by law.

C. Uniform Administrative Requirements, Cost Principles, and Audit Requirements for Federal Awards

On December 26, 2013, OMB published final guidance titled Uniform Administrative Requirements, Cost Principles, and Audit Requirements for Federal Awards (OMB Uniform Guidance) (https://www.Federalregister.gov/articles/2013/12/26/2013-30465/uniform-administrative-requirements-cost-principles-and-audit-requirements-for-Federal-awards), which streamlines the language from eight existing OMB circulars, including Cost Principles (OMB Circulars A-21, A-87, A-122) and administrative requirements (OMB Circulars A-102 and A-110), into one consolidated set of guidance applicable to Federal assistance awards. The OMB Uniform Guidance applies to awards made by the RESTORE Council. Applicants should familiarize themselves with the OMB Uniform Guidance. Additional information on the substance of and transition to the OMB Uniform Guidance may be found at https://cfo.gov/cofar/.

Will D. Spoon,
Program Analyst.

[FR Doc. 2014-30566 Filed 12-30-14; 8:45 am]

BILLING CODE P